DEPARTMENT OF HEALTH AND HUMAN SERVICES

Centers for Disease Control and Prevention

[30DAY-44-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: Foreign Quarantine Regulations—Extension—OMB No. 0920-0134 National Center for Infectious Diseases (NCID), Centers for Disease Control and Prevention (CDC), section 361 of the Public Health Service (PHS) Act (42 U.S.C. 264) authorizes the Secretary of Health and Human Services to make and enforce regulations necessary to prevent the introduction, transmission, or spread of communicable diseases from foreign countries into the United States. Legislation and the existing regulations governing quarantine activities (42 CFR part 71) authorize quarantine officers and other personnel to inspect and undertake necessary control measures with respect to conveyances, persons, and shipments of animals and etiologic agents in order to protect the public health. Currently, with the exception of rodent inspections and the cruise ship sanitation program, inspections are performed only on those vessels and aircraft which report illness prior to arrival or when illness is discovered upon arrival. Other inspection agencies assist quarantine officers in public health screening of persons, pets, and other importations of public health importance and make referrals to PHS when indicated. These practices and procedures assure protection against the introduction and spread of communicable diseases into the United States with a minimum of recordkeeping and reporting as well as a minimum of interference with trade and travel. Respondents would include airplane pilots, ships' captains, importers, and travelers. The nature of the quarantine response would dictate which forms are completed by whom. Thus, the ‘respondents’ portion of the information below is replaced by the requisite form title. The estimated annualized burden 743.60 hours.

Respondents | Number of respondents | Number of responses/respondent | Average burden per respondent (in hours)
Radio reporting of death/illness:
Aircraft | 130 | 1 | 2/60
Cruise ships | 90 | 23 | 1/60
Other ships | 22 | 1 | 1/60
Report by persons held in isolation/surveillance | 11 | 1 | 30/60
Report of death or illness on carrier during stay in port | 5 | 1 | 3/60
Requirements for admission of dogs and cats:
(1) | 5 | 1 | 3/60
(2) | 2,650 | 1 | 15/60
Application for permits to import turtles | 10 | 1 | 30/60
Requirements for registered importers of nonhuman primates:
(1) | 40 | 1 | 10/60
(2) | 50 | 1 | 30/60

Dated: July 23, 2001.
Nancy Cheal,
Acting Associate Director of Policy, Planning and Evaluation, Centers for Disease Control and Prevention.

[FR Doc. 01-18938 Filed 7-27-01; 8:45 am]

BILLING CODE 4163-18-P